DEPARTMENT OF HEALTH AND HUMAN SERVICES

Centers for Medicare & Medicaid Services

[Document Identifier: CMS-10050 and CMS-10174]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Revision of the currently approved collection; Title of Information Collection: New Enrollee Survey; Use: The New Enrollee survey was developed to gather information from newly enrolled Medicare beneficiaries about their Medicare knowledge and needs. CMS is seeking understanding about what types of information new enrollees need and what they know about Medicare. Included in the survey are questions regarding how well informed new enrollees are about Medicare and what information they have received about the Medicare program. Information gathered in this survey will be used only for purposes of targeting and improving communications with newly eligible Medicare beneficiaries. Form Number: CMS-10050 (OMB#: 0938-0869); Frequency: Reporting—Quarterly; Affected Public: Individuals or Households; Number of Respondents: 1200; Total Annual Responses: 1200; Total Annual Hours: 300. (For policy questions regarding this collection contact Renee Clark at 410-786-0006. For all other issues call 410-786-1326.)

2. Type of Information Collection Request: Revision of the currently approved collection; Title of Information Collection: Collection of Drug Event Data From Contracted Part D Providers For Payment; Use: In December 2003, Congress enacted the Medicare Prescription Drug, Improvement, and Modernization Act of 2003 referred to as the Medicare Modernization Act (MMA). The Medicare Prescription Drug Benefit program (Part D) was established by section 101 of the MMA and is codified in section 1860D-1 through 1860 D-41 of the Social Security Act. Effective January 1, 2006, the Part D program establishes an optional prescription drug benefit for individuals who are entitled to Medicare Part A and/or enrolled in Part B. Part D plans have flexibility in terms of benefit design. This flexibility includes, but is not limited to, authority to establish a formulary that limits coverage to specific drugs within each therapeutic class of drugs, and the ability to have a cost-sharing structure other than the statutorily defined structure (subject to certain actuarial tests). Coverage under the new prescription drug benefit is provided predominately through private at-risk prescription drug plans that offer drug-only coverage (PDPs), Medicare Advantage (MA) plans that offer integrated prescription drug and health care coverage (MA-PD plans) or Cost Plans that offer prescription drug benefits.

The transmission of the data will be in an electronic format. The information users will be Pharmacy Benefit Managers (PBM), third party administrators and pharmacies and the PDPs, MA-PDs, Fallbacks and other plans that offer coverage of outpatient prescription drugs under the Medicare Part D benefit to Medicare beneficiaries. The data is used primarily for payment, and is used for claim validation as well as for other legislated functions such as quality monitoring, program integrity and oversight. Form Number: CMS-10174 (OMB#: 0938-0982); Frequency: Reporting—Monthly; Affected Public: Business or other for-profits and Not-for-profit institutions; Number of Respondents: 747; Total Annual Responses: 947,881,770; Total Annual Hours: 1896. (For policy questions regarding this collection contact Bobbie Knickman at 410-786-4161. For all other issues call 410-786-1326.)

To obtain copies of the supporting statement and any related forms for the proposed paperwork collections referenced above, access CMS' Web site at http://www.cms.hhs.gov/PaperworkReductionActof1995, or e-mail your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by August 4, 2009:

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier/OMB Control Number (CMS-10078), Room C4-26-05, 7500 Security Boulevard, Baltimore, Maryland 21244-1850.

Dated: May 28, 2009.
Michelle Shortt,
Director, Regulations Development Group, Office of Strategic Operations and Regulatory Affairs.

[FR Doc. E9-13150 Filed 6-4-09; 8:45 am]

BILLING CODE 4120-01-P